DEPARTMENT OF THE TREASURY

Agency Information Collection Activities; Submission for OMB Review; Comment Request; Multiple Internal Revenue Service (IRS) Information Collection Requests

AGENCY: Departmental Offices, Department of the Treasury.

ACTION: Notice of information collection, request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Statement by Person(s) Receiving Gambling Winnings.

OMB Number: 1545-0239.

Form Number: Form 5754.

Abstract: Form 5754 is to be completed if you receive gambling winnings either for someone else or as a member of a group of winners on the same winning ticket. The information you provide on the form enables the payer of the winnings to prepare Form W-2G, Certain Gambling Winnings, for each winner to show the winnings taxable to each.

Type of Review: Extension of a currently approved collection.

Affected Public: Business or other for-profit organizations, individuals or households, and not-for-profit institutions.

Estimated Number of Respondents: 204,000.

Estimated Time per Respondent: 12 minutes.

Estimated Total Annual Burden Hours: 40,800.

2. Title: Guidance for qualification as an acceptance agent, and execution of an agreement between an acceptance agent and the Internal Revenue Service relating to the issuance of certain taxpayer identifying numbers.

OMB Number: 1545-1499.

Revenue Procedure Number: 2006-10.

Abstract: This revenue procedure describes application procedures for becoming an acceptance agent and the requisite agreement that an agent must execute with the Internal Revenue Service.

Type of Review: Extension of a currently approved collection.

Affected Public: Individuals, business or other for-profit organizations, not-for-profit institutions, Federal Government, and state, local or tribal governments.

Estimated Number of Respondents: 8,000.

Estimated Time per Respondent: 3 hours, 7 minutes.

Estimated Total Annual Burden Hours: 24,960.

3. Titles: Reportable Transaction Disclosure Statement; and Compliance Assurance Process (CAP) Application and (Attachments A, B, C, D).

OMB Number: 1545-1800.

Form Numbers: 8886 and 14234.

Type of Review: Extension of a currently approved collection.

Affected Public: Business or other for-profit organizations.

Form 8886:

Estimated Number of Respondents: 21,353.

Estimated Time per Respondent: 21 hours, 33 minutes.

Estimated Total Annual Burden Hours: 459,944.

Form 14234:

Estimated Number of Respondents: 125.

Estimated Time per Response: 12 hours, 40 minutes.

Estimated Total Annual Burden Hours: 1,584.

4. Title: Waiver of Right to Consistent Agreement of Partnership Items and Partnership-Level Determinations as to Penalties, Additions to Tax, and Additional Amounts.

OMB Number: 1545-1969.

Form Number: 13751.

Abstract: The information requested on Form 13751 will be used to determine the eligibility for participation in the settlement initiative of taxpayers related through TEFRA partnerships to ineligible applicants. Such determinations will involve partnership items and partnership-level determinations, as well as the calculation of tax liabilities resolved under this initiative, including penalties and interest.

Type of Review: Extension of a currently approved collection.

Affected Public: Individuals or households, Business or other for-profit organizations, not-for-profit institutions.

Estimated Number of Respondents: 100.

Estimated Time per Respondent: 1 hour.

Estimated Total Annual Burden Hours: 100 hours.

5. Title: Reporting of health insurance coverage.

OMB Number: 1545-2252.

Form Number: TD 9660, Form 1094-B, and Form 1095-B.

Abstract: This collection covers final regulations providing guidance to providers of minimum essential health coverage that are subject to the information reporting requirements of section 6055 of the Internal Revenue Code. Section 6055 requires every person who provides minimum essential coverage to file returns reporting information for everyone for whom they provide minimum essential coverage. Form 1095-B, Health Coverage, was created for reporting this information. Form 1094-B, Transmittal of Health Coverage Information Returns, is used to transmit Form 1095-B.

Type of Review: Extension of a currently approved collection.

Affected Public: Business or other for-profit organizations, not-for-profit institutions, farms, and state, local, or tribal governments.

Estimated Number of Respondents: 125,030,000.

Estimated Time per Respondent: 10 minutes for Form 1094-B and 1 minute for Form 1095-B.

Estimated Total Annual Burden Hours: 2,088,333.

6. Title: Relief for Service in Combat Zone and for Presidentially Declared Disaster.

OMB Number: 1545-2286.

Regulation Project Number: TD 8911, TD 9443, Form 15109.

Abstract: This collection covers the final rules to the Regulations on Procedure and Administration (26 CFR part 301) under section 7508 of the Internal Revenue Code (Code), relating to postponement of certain acts by reason of service in a combat zone, and section 7508A, relating to postponement of certain tax-related deadlines by reason of a Presidentially declared disaster. Section 7508A was added to the Code by section 911 of the Taxpayer Relief Act of 1997, Public Law 105-34 (111 Stat. 788 (1997)), effective for any period for performing an act that had not expired before August 5, 1997. Form 15109 was created to help taxpayers, including Civilian taxpayers working with U.S. Armed Forces, qualifying for such combat zone relief, provide the IRS with the appropriates dates.

Type of Review: Extension of a currently approved collection.

Affected Public: Individuals or households.

Estimated Number of Respondents: 20,000.

Estimated Time per Respondent: 20 minutes.

Estimated Total Annual Burden Hours: 6,600.

7. Title: User Fee for Employee Plan Determination or Opinion Letter Request.

OMB Control Number: 1545-1772.

Form Number: Form 8717 and Form 8717-A.

Abstract: Internal Revenue Code section 7528 requires the payment of user fees for requests to the IRS for ruling letters, opinion letters, and determination letters. Forms 8717 and 8717-A are used by employee plan providers and sponsors to indicate the type of letter request and pay the appropriate user fee.

Type of Review: Extension of a currently approved collection.

Affected Public: Business or other for-profit organizations, and not-for-profit institutions.

Estimated Number of Responses: 9,000.

Estimated Time per Respondent: 2 hours, 38 minutes.

Estimated Total Annual Burden Hours: 23,650.

8. Title: Patient Protection and Affordable Care Act Patient Protection Notice.

OMB Control Number: 1545-2181.

Type of Review: Extension of a currently approved collection.

Description: The Patient Protection Notice is used by health plan sponsors and issuers to notify certain individuals of their right to (1) choose a primary care provider or a pediatrician when a plan or issuer requires participants or subscribers to designate a primary care physician; or (2) obtain obstetrical or gynecological care without prior authorization.

Form: TD 9951.

Affected Public: Business or other for-profit; not-for profit organizations.

Estimated Number of Respondents: 11,241.

Estimated Total Number of Annual Responses: 148,181.

Estimated Time per Response: 1 minute.

Estimated Total Annual Burden Hours: 2,810 hours.

Authority: 44 U.S.C. 3501 et seq.

Melody Braswell,
Treasury PRA Clearance Officer.

[FR Doc. 2022-13913 Filed 6-28-22; 8:45 am]

BILLING CODE 4830-01-P